DEPARTMENT OF COMMERCE

National Oceanic and Atmospheric Administration

[RTID 0648-XA179]

South Atlantic Fishery Management Council; Public Meetings

AGENCY: National Marine Fisheries Service (NMFS), National Oceanic and Atmospheric Administration (NOAA), Commerce.

ACTION: Notice of public meetings.

SUMMARY: The South Atlantic Fishery Management Council (Council) will hold meetings of the following: Information and Education Committee; Dolphin Wahoo Committee; Snapper Grouper Committee; Southeast Data, Assessment and Review (SEDAR) Committee; Citizen Science Committee; Executive Committee; and Mackerel Cobia Committee. The meeting week will also include a formal public comment session and meeting of the Full Council (partially Closed Session). Due to public health concerns associated with COVID-19 and current travel restrictions, the meeting originally planned for Key West, FL will be held via webinar.

DATES: The Council meeting will be held from 10 a.m. on Monday, June 8, 2020, until 12 p.m. on Thursday, June 11, 2020.

ADDRESSES: Meeting address: The meeting will be held via webinar. Webinar registration is required. Details are included in SUPPLEMENTARY INFORMATION.

FOR FURTHER INFORMATION CONTACT: Kim Iverson, Public Information Officer, SAFMC; phone: (843) 302-8440 or toll free: (866) SAFMC-10; fax: (843) 769-4520; email: kim.iverson@safmc.net.

SUPPLEMENTARY INFORMATION: Meeting information, including agendas, overviews, and briefing book materials will be posted on the Council's website at: http://safmc.net/safmc-meetings/council-meetings/. Webinar registration links for each meeting day will also be available from the Council's website.

Public comment: Written comments may be directed to John Carmichael, Executive Director, South Atlantic Fishery Management Council (see Council address) or electronically via the Council's website at http://safmc.net/safmc-meetings/council-meetings/. Comments received by close of business the Monday before the meeting (6/1/20) will be compiled, posted to the website as part of the meeting materials, and included in the administrative record; please use the Council's online form available from the website. For written comments received after the Monday before the meeting (after 6/1/20), individuals submitting a comment must use the Council's online form available from the website. Comments will automatically be posted to the website and available for Council consideration. Comments received prior to 9 a.m. on Thursday, June 11, 2020 will be a part of the meeting administrative record.

The items of discussion in the individual meeting agendas are as follows:

Council Session (Closed)—Monday, June 8, 2020, 10 a.m. Until 10:45 a.m.

The Council will meet in full session and receive an overview of the process for conducting the meeting via webinar. The Council will also review applicants for the Council's Scientific and Statistical Committee (SSC), and the Socio-Economic Panel (SEP) and make appointments as necessary. A legal briefing on litigation will also be held if needed.

Information and Education Committee, Monday, June 8, 2020, 11 a.m. Until 12 p.m.

1. The Committee will receive a report from the Information and Education Advisory Panel.

2. The Committee will receive an update on the Best Fishing Practices outreach campaign, review the draft Best Practices web page, receive a briefing on upcoming outreach activities and provide direction to staff.

Dolphin Wahoo Committee, Monday, June 8, 2020, 1:30 p.m. Until 4:30 p.m.

1. The Committee will receive catch level recommendations from the SSC for dolphin and wahoo and take action as necessary. The Committee will also receive an update on the Biological Opinion (BiOp) for the Highly Migratory Species longline fishery.

2. The Committee will receive an overview of draft Amendment 10 to the Dolphin Wahoo Fishery Management Plan (FMP) with actions that currently address: Revisions to recreational data and catch level recommendations, redefining Optimum Yield in the dolphin fishery, modifications to accountability measures, and other management revisions to the dolphin and wahoo fisheries. The Committee will review the draft Amendment and provide direction to staff.

3. The Committee will receive an overview of draft Amendment 12 to the Dolphin Wahoo FMP with measures to add bullet mackerel and frigate mackerel as Ecosystem Component species to the Dolphin Wahoo FMP and provide guidance to staff.

4. The Committee will receive an update from staff on the Dolphin Wahoo Participatory Workshops and also provide recommendations for Mid-Atlantic Fishery Management Council representation on the Dolphin Wahoo Advisory Panel.

Snapper Grouper Committee, Tuesday, June 9, 2020, 9 a.m. Until 4:30 p.m.

1. The Committee will receive updates from NOAA Fisheries the status of amendments under formal Secretarial review, including Regulatory Amendment 33 to the Snapper Grouper FMP and the 2020 Red Snapper Season.

2. The Committee will review impacts of COVID-19 on the snapper grouper fishery and discuss potential management responses.

3. The Committee will receive reports on the greater amberjack stock assessment from NOAA Fisheries Southeast Fisheries Science Center (SEFSC) and from the SSC, and discuss and determine the Acceptable Biological Catch (ABC) and management response.

4. The Committee will receive an overview of Regulatory Amendment 34 to the Snapper Grouper Fishery Management Plan (FMP) addressing proposed Special Management Zone (SMZ) designation for artificial reefs in federal waters off North Carolina and South Carolina, review public hearing comments, make edits to the Amendment as appropriate and provide recommendations for final Secretarial approval.

5. The Committee will receive reports on the red porgy stock assessment from NOAA Fisheries SEFSC and from the SSC, and discuss and determine the ABC and management response.

SEDAR Committee, Wednesday, June 10, 2020, 9 a.m. Until 10 a.m.

The Committee will receive an update on SEDAR stock assessment activities, a report from the SEDAR Steering Committee, and approve Terms of Reference for upcoming stock assessments.

Citizen Science Committee, Wednesday, June 10, 2020, 10 a.m. Until 12 p.m.

1. The Committee will provide guidance on the Citizen Science Program Evaluation including program goals, objectives, strategies, and indicators, and discuss the program evaluation plan.

2. The Committee will also receive programmatic and project updates.

Executive Committee, Wednesday, June 10, 2020, 1:30 p.m. Until 2:30 p.m.

1. The Committee will review the Council Priorities and workplan and provide revisions as needed.

2. The Committee will receive an update on the Council Coordination Committee Meeting.

3. The Committee will also review and provide recommendations on policies relative to: Internal research funding and selection process; staff performance evaluation process; and sexual harassment prevention training.

Mackerel Cobia Committee, Wednesday, June 10, 2020, 2:30 p.m. Until 3:45 p.m.

1. The Committee will receive an update on the current status of amendments under formal Secretarial review.

2. The Committee will receive reports on the king mackerel stock assessment from NOAA Fisheries SEFSC and from the SSC, and discuss and determine the ABC and management response.

3. The Committee will review impacts of COVID-19 on the mackerel cobia fishery and discuss potential management responses.

Formal Public Comment, Wednesday, June 10, 2020, 4 p.m.—Public comment will be accepted via webinar on items on the Council meeting agenda scheduled to be approved for Secretarial Review: Regulatory Amendment 34 to the Snapper Grouper FMP (SMZ designations for artificial reefs off NC and SC). Public comment will also be accepted on all other agenda items. The Council Chair, based on the number of individuals wishing to comment, will determine the amount of time provided to each commenter.

Council Session: Thursday, June 11, 2020, 9 a.m. Until 12 p.m.

The Full Council will begin with the Call to Order, adoption of the agenda, and approval of minutes.

The Council will receive updates from staff regarding allocation discussions by the Council's Socio-Economic Panel and a recently released report from the U.S. Government Accountability Office providing recommendations for documented processes for allocation reviews. The Council will discuss and provide direction to staff.

The Council will receive a staff report on the impacts of COVID-19 on the Council office operations, reports from state agency representatives on COVID-19 impacts, and an update on the status of the CARES Act relative to COVID-19 relief funds. The Council will discuss impacts, consider any necessary response including emergency action, and take action as appropriate.

The Council will receive an update on the Joint Council Workgroup on Section 102 of the Modern Fish Act and provide guidance to the South Atlantic Fishery Management Council representatives on the workgroup.

NOAA Fisheries Southeast Regional Office staff will provide an update on the status of the For-Hire Electronic Reporting Amendment.

The Council will review any Exempted Fishing Permits received as needed and provide recommendations.

The Council will receive reports from the following committees: Information and Education; Dolphin Wahoo; Snapper Grouper; SEDAR; Citizen Science; Mackerel Cobia; and Executive; and review the SSC Selection Recommendations. The Council will take action as appropriate.

The Council will receive agency and liaison reports, discuss other business and upcoming meetings, and take action as necessary.

Documents regarding these issues are available from the Council office (see ADDRESSES).

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: May 21, 2020.
Tracey L. Thompson,
Acting Deputy Director, Office of Sustainable Fisheries, National Marine Fisheries Service.

[FR Doc. 2020-11394 Filed 5-26-20; 8:45 am]

BILLING CODE 3510-22-P